DEPARTMENT OF ENERGY

Federal Energy Regulatory Commission

[Project Nos. 2291-147; 2292-104]

Domtar Wisconsin Dam Corporation; Notice of Application To Amend License and Accepted for Filing, Soliciting Comments, Motions To Intervene, and Protests

Take notice that the following hydroelectric application has been filed with the Commission and is available for public inspection:

a. Type of Application: Amendment of License.

b. Project Nos: 2291-147 and 2292-104.

c. Date Filed: February 8, 2013, and supplemented on June 19, 2013, September 17, 2013, and November 5, 2013.

d. Applicant: Domtar Wisconsin Dam Corporation.

e. Name of Projects: Port Edwards and Nekoosa Hydroelectric Projects.

f. Location: The Port Edwards and Nekoosa Projects are located on the Wisconsin River, in Wood County, Wisconsin. The projects do not occupy any federal lands.

g. Filed Pursuant to: Federal Power Act, 16 U.S.C. 791(a)-825(r).

h. Applicant Contact: David S. Ulrich, Environmental Superintendent, Domtar Wisconsin Dam Corporation, 301 Point Basse Avenue, Nekoosa, Wisconsin 54457; telephone (715) 886-7711.

i. FERC Contact: Linda Stewart at (202) 502-6680; or email at linda.stewart@ferc.gov.

j. Deadline for filing comments, motions to intervene, and protests, is 15 days from the issuance date of this notice by the Commission. The Commission strongly encourages electronic filing. Please file any motion to intervene, protest, comments, and/or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-2291-147 and P-2292-104.

k. Description of Request: Domtar Wisconsin Dam Corporation (Domtar) proposes to change a section of the existing Port Edwards Project transmission line route. Specifically, Domtar's proposal includes constructing a new approximately 1,800-foot-long, 69-kilovolt (kV) overhead transmission that would extend from a new 69/14.4-kV substation to an existing project power pole. The proposed substation would be connected to the existing powerhouse by an approximately 250-foot-long, underground transmission line. A portion of the proposed overhead transmission line would be located on lands of the Nekoosa Project. Domtar either owns or has permanent easement rights to all lands that would be occupied by the proposed new substation and transmission line.

l. Locations of the Application: This filing may be viewed on the Commission's Web site at http://www.ferc.gov/docs-filing/elibrary.asp. Enter the docket number P-2291 or P-2292 in the docket number field to access the document. You may also register online at http://www.ferc.gov/docs-filing/esubscription.asp to be notified via email of new filings and issuances related to this or other pending projects. For assistance, call 1-866-208- 3676 or email FERCOnlineSupport@ferc.gov, for TTY, call (202) 502-8659. A copy is also available for inspection and reproduction at the address in item (h) above and at the Commission's Public Reference Room, located at 888 First Street NE., Room 2A, Washington, DC 20426, or by calling (202) 502-8371.

m. Individuals desiring to be included on the Commission's mailing list should so indicate by writing To the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: November 13, 2013.
Kimberly D. Bose,
Secretary.

[FR Doc. 2013-27747 Filed 11-19-13; 8:45 am]

BILLING CODE 6717-01-P